DEPARTMENT OF COMMERCE

National Oceanic and Atmospheric Administration

RIN 0648-XB40

Endangered Species and Marine Mammals; File No. 10014

AGENCY: National Marine Fisheries Service (NMFS), National Oceanic and Atmospheric Administration (NOAA), Commerce.

ACTION: Notice; receipt of application.

SUMMARY: Notice is hereby given that the New Jersey Department of Environmental Protection (NJDEP), Division of Science, Research and Technology, P.O. Box 409, Trenton, NJ 08625-0409, has applied in due form for a permit to take marine mammals and sea turtles for purposes of scientific research.

DATES: Written, telefaxed, or e-mail comments must be received on or before August 15, 2007.

ADDRESSES: The application and related documents are available for review upon written request or by appointment in the following office(s):

Permits, Conservation and Education Division, Office of Protected Resources, NMFS, 1315 East-West Highway, Room 13705, Silver Spring, MD 20910; phone (301)713-2289; fax (301)427-2521; and

Northeast Region, NMFS, One Blackburn Drive, Gloucester, MA 01930-2298; phone (978)281-9300; fax (978)281-9394.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)427-2521, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 10014.

FOR FURTHER INFORMATION CONTACT: Patrick Opay or Carrie Hubard, (301)713-2289.

SUPPLEMENTARY INFORMATION: The subject permit is requested under the authority of the Marine Mammal Protection Act of 1972, as amended (MMPA; 16 U.S.C. 1361 et seq.), the regulations governing the taking and importing of marine mammals (50 CFR part 216) and the Endangered Species Act of 1973, as amended (ESA; 16 U.S.C. 1531 et seq.) and the regulations governing the taking, importing, and exporting of endangered and threatened species (50 CFR 222-226).

The NJDEP seeks permission to conduct research to elucidate the distribution and abundance of baleen whales, odontocete whales, pinnipeds, and sea turtles. Research would include take by survey approach during shipboard and aircraft transect surveys of up to 200 common dolphins, 410 bottlenose dolphins, 100 Atlantic spotted dolphins, 100 striped dolphins, 100 pantropical spotted dolphins, 100 spinner dolphins, 100 clymene dolphins, 10 Northern bottlenosed whales, 10 melon-headed whales, 25 white-sided dolphins, 10 white-beaked dolphins, 10 Risso's dolphins, 200 pilot whales, 100 harbor porpoises, 10 killer whales, 10 sperm whales, 10 Cuvier's beaked whales, 10 Mesoplodon whales, 20 pygmy/dwarf sperm whales, 10 pygmy killer whales, 10 blue whales, 10 sei whales, 25 minke whales, 100 fin whales, 100 humpback whales, 300 Northern right whales, 1400 harbor seals, 400 gray seals, 25 harp seals, 25 hooded seals, 10 hawksbill sea turtles, 100 leatherback sea turtles, 600 loggerhead sea turtles, 100 Kemp's ridley sea turtles, and 50 green sea turtles. The study area would include U.S. waters offshore of southern New Jersey out to a distance of 20 nautical miles. A five-year permit is requested.

Concurrent with the publication of this notice in the Federal Register, NMFS is forwarding copies of this application to the Marine Mammal Commission and its Committee of Scientific Advisors.

Dated: July 10, 2007.
P. Michael Payne,
Chief, Permits, Conservation and Education Division, Office of Protected Resources, National Marine Fisheries Service.

[FR Doc. E7-13736 Filed 7-13-07; 8:45 am]

BILLING CODE 3510-22-S